DEPARTMENT OF ENERGY

Senior Executive Service; Performance Review Board

AGENCY: Department of Energy

ACTION: SES Performance Review Board Standing Register.

SUMMARY: This notice provides the Performance Review Board Standing Register for the Department of Energy. This listing supersedes all previously published lists of PRB members.

EFFECTIVE DATE: These appointments are effective as of September 30, 2000.

ACHARYA, SARBESWAR NMN

ACKERLY, LAWRENCE R

AGUILERA, ESTHER

ALCOCK, ROBERT M

ALLARD III, EDWARD T

ALLISON, JEFFREY M

ANDERSON, JAMES L

ANDERSON, MARGOT H

ARMSTRONG, M BRENT

ARTHUR III, WILLIAM JOHN

ASCANIO, XAVIER

BACA, FRANK A

BACA, MARK C

BAILEY, LAWRENCE D

BAJURA, RITA A

BAKER, KENNETH E

BALLARD, WILLIAM W

BARKER JR, WILLIAM L

BARRETT, LAKE H

BAUER, CARL O

BAUER, LINDA K

BECKETT, THOMAS H

BEECY, DAVID J

BENEDICT, GEORGE W

BERGHOLZ JR, WARREN E

BERICK, DAVID M

BERKOVITZ, DAN M

BERNARD, PETER A

BERUBE, RAYMOND P

BIELAN, DOUGLAS J

BILSON, HELEN E

BLACK, RICHARD L

BLACKWOOD, EDWARD B

BLADOW, JOEL K

BOARDMAN, KAREN L

BORCHARDT, CHARLES A

BORGSTROM, CAROL M

BORGSTROM, HOWARD G

BORNHOFT JR, BUDD B

BOSTON, HARRY L

BOWMAN, GERALD C

BOYD, GERALD G

BRADLEY JR, THERON M

BRADLEY, SAMUEL M

BRECHBILL, SUSAN R

BRENDLINGER, TERRY L

BREZNAY, GEORGE B

BRICE, JAMES F

BROCOUM, STEPHAN J

BRODMAN, JOHN R

BRONSTEIN, ELI B

BROWN III, ROBERT J

BROWN, FREDERICK R

BRUMLEY, WILLIAM J

BUBAR, PATRICE M

BURKE, BRIAN E

BURNS, ALLEN L

BURROWS, CHARLES W

BUTLER, JEROME M

CAMPBELL, ELIZABETH E

CAMPBELL, JAMES THOMAS

CARABETTA, RALPH A

CARAVELLI, JOHN M

CARDINALI, HENRY A

CARLSON, JOHN T

CARLSON, KATHLEEN ANN

CARY, STEVEN V

CASTELLI, BRIAN T

CAVANAGH, JAMES J

CHANEY, KIMBERLY A HAYES

CHRISTENSEN, WILLIAM J

CHRISTOPHER, ROBERT K

CHUN, SUN W

CLARK, JOHN R

CLAUSEN, MAX JON

COBURN, LEONARD L

COMBS, MARSHALL O

COOK, BEVERLY ANN

COOK, JOHN S

COSTLOW, BRIAN D

COWAN, GWENDOLYN S

CRAIG JR, JACK R

CRANDALL, DAVID H

CROSS, CLAUDIA A

CROWE, RICHARD C

CUMESTY, EDWARD G

CURTIS, JAMES H

CYGELMAN, ANDRE I

DALTON, HENRY F

DARUGH, DAVID G

DAVIES, NELIA A

DAVIS, JAMES T

DAWSON, DEBORAH A

DE LORENZO, RALPH H

DECKER, JAMES F

DEDIK, PATRICIA

DEGRASSE JR, ROBERT W

DEHANAS, THOMAS W

DEHMER, PATRICIA M

DEHORATIIS JR, GUIDO

DEIHL, MICHAEL A

DEMPSEY, ROBERT D

DENNISON, WILLIAM J

DER, VICTOR K

DESMOND JR, WILLIAM J

DEVER, GERTRUDE L

DIFIGLIO, CARMEN NMN

DIRKS, TIMOTHY M

DIXON, ROBERT K

DOHERTY, DONALD P

DOMAGALA, MARTIN J

DOOLEY III, GEORGE J

DURNAN, DENIS D

DYER, J RUSSELL

EBERWEIN, CATHERINE D

EDMONDSON, JOHN J

EGGER, MARY H

EMMETT, ROBERT A

ERICKSON, LEIF

ESVELT, TERENCE G

FALLE, J GARY

FARIELLO, THERESA M

FIORE, JAMES J

FITZGERALD JR, JOSEPH E

FITZGERALD, CHERYL P

FOLKER, ROBERT D

FOWLER, JENNIFER JOHNSON

FRAZIER, MARVIN E

FREI, MARK W

FRENCH, RICHARD T

FURIGA, RICHARD D

FYGI, ERIC J

GARCIA, MARVIN L

GARLAND, ROBERT W

GARSON, HENRY K

GEBUS, GEORGE R

GEIDL, JOHN C

GIBSON JR, WILLIAM C

GIBSON, JUDITH D

GILBERTSON, MARK A

GILL, CLAIR F

GILLIGAN, JOHN M

GINSBERG, MARK B

GLASS, RICHARD E

GLENN, DANIEL E

GLICK, RICHARD A

GOLAN, PAUL M

GOLDENBERG, NEAL NMN

GOLDENBERG, RALPH D

GOLDSMITH, ROBERT NMN

GOLLOMP, LAWRENCE A

GOODRUM, WILLIAM S

GOTTEMOELLER, ROSE E

GOTTLIEB, PAUL A

GREENWALD, MATTHEW F

GREENWOOD, JOHNNIE D

GROSS, THOMAS J

GUIDICE, CARL W

GUNN JR, MARVIN E

GURULE, DAVID A

HABERMAN, NORTON NMN

HABIGER, EUGENE E

HACSKAYLO, MICHAEL S

HAMER JR, DAVID L

HANSEN, CHARLES A

HARDIN, MICHAEL G

HARDWICK JR, RAYMOND J

HARTMAN, JAMES K

HASPEL, ABRAHAM E

HAWKINS, FRANCIS C

HEADLEY, LARRY C

HEENAN, THOMAS F

HEINKEL, JOAN E

HENDERSON, LYNWOOD H

HENSLEY JR, WILLIE F

HEUSSER, ROGER K

HICKOK, STEVEN G

HIRAHARA, JAMES S

HOFFMAN, ALLAN R

HOLBROOK, PHILLIP L

HOLGATE, LAURA S H

HOLLOWELL, BETTY L N

HOLMES, NANCY H

HOOPER, MICHAEL K

HOPF, RICHARD H

HORTON, DONALD G

HOWES, WALTER S

HUGHES, JEFFREY L

HUIZENGA, DAVID G

HUMPHREY, CALVIN R

HUNEMULLER, MAUREEN A

HUTZLER, MARY JEAN

IZELL, KATHY D

JAFFE, HAROLD

JENKINS, ROBERT G.

JOHANSEN, JUDITH A

JOHNSON, FREDERICK M

JOHNSON, MILTON D

JOHNSON, OWEN B

JOHNSON, SANDRA L

JOHNSTON, MARC

JONES, C RICK

JONES, DAVID A

JOSEPH, ANTIONETTE GRAYSO

JUAREZ, LIOVA D

JUCKETT, DONALD A

JUDGE, GEOFFREY J

KENDERDINE, MELANIE ANNE

KENNEDY, JOHN P

KIGHT, GENE H

KILGORE, WEBSTER C

KILPATRICK, MICHAEL A

KING, GARY K

KING, RACHEL S

KIRKMAN, LARRY D

KIRK, ROBERT S

KLAUS, DAVID M

KLEIN, KEITH A

KLEIN, SUSAN ELAINE

KNOLLMEYER, PETER M

KONOPNICKI, THAD T

KOVAR, DENNIS G

KRIPOWICZ, ROBERT S

KRUGER, PAUL W

LANDERS, JAMES C

LANE, ANTHONY R

LANGE, ROBERT G

LASH, TERRY R

LAWRENCE, ANDREW C

LEHMAN, DANIEL R

LEITER, DAVID J

LEVIN JR, WILLIAM B

LEWIS JR, WILLIAM A

LEWIS, ROGER A

LIEN, STEPHEN CT

LIGHTNER, RALPH G

LINGLE, LINDA A

LOWE, OWEN W

LYLE, JERRY L

MAGUIRE, JOSEPH J

MAGWOOD IV, WILLIAM D

MAHALEY, JOSEPH S

MAHARAY, WILLIAM S

MAHER, MARK W

MALOSH, GEORGE J

MANGENO, JAMES J

MANN, THOMAS O

MARCUS, GAIL H

MARIANELLI, ROBERT S

MARKEL JR, KENNETH E

MARKS JR, DAVID L

MARLAY, ROBERT C

MARMOLEJOS, POLI A

MASTERSON, MARY A

MAZUR, MARK J

MAZUROWSKI, BARBARA A

MCBROOM, JOHN M

MCKEE, BARBARA N

MCRAE, JAMES BENNETT

MELLINGTON, SUZANNE P

MICHELSEN, STEPHEN J

MILLER, CLARENCE L

MILLER, DEBORAH C

MILLHONE, JOHN P

MILLMAN, WILLIAM S

MILNER, RONALD A

MIOTLA, DENNIS M

MONETTE, DEBORAH D

MONHART, JANE L

MOORER, RICHARD F

MORGAN, JEAN M

MORRIS, MARCIA L

MOSQUERA, JAMES P

MOURNIGHAN, STEPHEN D

MULLINS, ELIZABETH S

MURPHIE, WILLIAM E

MURPHY, ALICE Q

MURPHY, ROBERT E

NAGURKA, STUART C

NEALY, CARSON L

NEILSEN, FINN K

NELSON, RODNEY R

NICHOLS, CLAYTON R

NOLAN, ELIZABETH A

NORMAN, PAUL E

NULTON, JOHN D

NULTY, TIMOTHY E

O BRIEN, BETSY K

O'FALLON, JOHN R

OLDHAM, MICHAEL J

OLIVER, LAWRENCE R

OOSTERMAN, CARL H

OWENDOFF, JAMES M

PALMIERI, THOMAS M

PARKS JR, WILLIAM P

PARNES, SANFORD J

PATRINOS, ARISTIDES A

PEARSON, ORIN F

PENA, EMIL

PENRY, JUDITH M

PERIN, STEPHEN G

PETTENGILL, HARRY J

PETTIS, LAWRENCE A

PIPER II, LLOYD L

PODONSKY, GLENN S

POE, ROBERT W

POWERS, JAMES G

POWERS, KENNETH W

PRAY, CHARLES P

PRICE JR, ROBERT S

PROVENCHER, RICHARD B

PRUDOM, GERALD H

PRZYBYLEK, CHARLES S

PUMPHREY, DAVID L

PYE, DAVID B

RABBEN, ROBERT G

RHOADES, DANIEL R

RICHARDSON, HERBERT

ROBERTS, MICHAEL NMN

ROBINSON, JOHN M

ROBISON, SALLY A

RODEHEAVER, THOMAS N

RODEKOHR, MARK E

RODGERS, STEPHEN J

ROHLFING, JOAN B

ROLLOW, THOMAS A

ROONEY, JOHN M

ROSEN, SIMON PETER

ROSSELLI, ROBERT M

RUDINS, GEORGE NMN

RUDY, GREGORY P

RYDER, THOMAS S

SALM, PHILIP E

SAN MARTIN, ROBERT L

SATO, WALTER N

SCALINGI, PAULA L.

SCHEPENS, ROY J

SCHMITT, EUGENE C

SCHMITT, WILLIAM A

SCHNAPP, ROBERT M

SCHNEIDER, SANDRA L

SCHWARTZ, MARK S

SCOTT, RANDAL S

SELLERS, ELIZABETH D

SENA, RICHARD F

SHEBEK, MARYANN M

SHERMAN, HELEN O

SIEBERT JR, ARLIE B

SILBERGLEID, STEVEN A

SINGER, MARVIN I

SISKIN, EDWARD J

SISSON, BARBARA A

SITZER, SCOTT B

SKUBEL, STEPHEN C

SMITH, ALAN C

SMITH, ALEXANDRA B

SMITH, BARRY ALAN

SMITH, STEPHEN M

SOHINKI, STEPHEN M

SPECTOR, LEONARD S

STADLER, SILAS D

STAFFIN, ROBIN NMN

STALLMAN, ROBERT M

STARK, RICHARD M

STEWART JR, FRANK M

STEWART JR, JAKE W

STONE, BARBARA R

STRAKEY JR, JOSEPH P

STRAUSS, NEAL J

SULAK, STANLEY R

SULLIVAN, JOHN R

SWEENEY II, JAMES R

SWINK, DENISE F

SYE, LINDA G

SYLVESTER, WILLIAM G

TABOAS, ANIBAL L

TAVARES, ANTONIO F

TEDROW, RICHARD T

THOMAS, IRAN L

THROCKMORTON, RALPH R

TODD, JOHN C.

TOENYES, JERRY W

TOMFORD, NANCY W

TORKOS, THOMAS M

TRIAY, INES R

TRYON, ARTHUR E

TSENG, JOHN C

TURI, JAMES A

TURNER, JAMES M

UNDERWOOD, WILLIAM R

VAGTS, KENNETH A

VALDEZ, WILLIAM J

VAN FLEET, JAMES L

VANZANDT, VICKIE A

WAGNER, M PATRICE

WAGNER, MARY LOUISE

WAISLEY, SANDRA L

WALDRON, ROBERT E

WALGREN, DOUGLAS NMN

WALSH, ROBERT J

WARNICK, WALTER L

WATKINS, ISABELLE Y

WEGNER, GERALD C

WEIS, MICHAEL J

WERNER, JAMES D

WHITAKER JR, MARK B

WHITE, JAMES K

WHITEMAN, ALBERT E

WIEKER, THOMAS L

WILCHER, LARRY D

WILKEN, DANIEL H

WILLIAMS, ALICE C

WILLIAMS, MARK H

WILLIS, JOHN W

WILMOT, EDWIN L

WRIGHT, STEPHEN J

WU, JEREMY S

WYMER, NATALIE D

YUAN-SOO HOO, CAMILLE C

ZAMORSKI, MICHAEL J

Issued in Washington, DC October 26, 2000.
David M. Klaus,
Director of Management and Administration.

[FR Doc. 00-28160 Filed 11-1-00; 8:45 am]

BILLING CODE 6450-01-P